ENVIRONMENTAL PROTECTION AGENCY

[FRL-7514-4]

Clean Water Act Section 303(d): Final Agency Action Adding Waters to the Arkansas 2002 Section 303(d) List

AGENCY: Environmental Protection Agency.

ACTION: Final agency action.

SUMMARY: This notice announces EPA's final agency action on the Arkansas 2002 section 303(d) list pursuant to Clean Water Act section 303(d).

On June 9, 2003, EPA took final action on its March 10, 2003, proposed decision to add 52 water quality limited segments (WQLSs) and associated pollutants to Arkansas' 2002 303(d) list.

ADDRESSES: Copies of the documents which explain the rationale for EPA's final decision, response to public comments, and a list of the 50 WQLSs that EPA added to Arkansas' 2002 section 303(d) list can be obtained from EPA Region 6's Web site at www.epa.gov/earth1r6/6wq/artmdl.htm, or by writing or calling Ms. Ellen Caldwell, Environmental Protection Specialist, Water Quality Protection Division, U.S. Environmental Protection Agency Region 6, 1445 Ross Ave., Dallas, TX 75202-2733, telephone (214) 665-7513, facsimile (214) 665-6490, or e-mail: caldwell.ellen@epa.gov. Documents from the administrative record for these decisions also are available for public inspection at the above address. Please contact Ms. Caldwell to schedule an inspection.

FOR FURTHER INFORMATION CONTACT: Ellen Caldwell at (214) 665-7513.

SUPPLEMENTARY INFORMATION: Section 303(d) of the Clean Water Act (CWA) requires that each state identify those waters for which existing technology-based pollution controls are not stringent enough to attain or maintain state water quality standards. For those waters, states are required to establish total maximum daily loads according to a priority ranking.

On March 10, 2003, EPA approved Arkansas' listing of 76 WQLSs and associated priority rankings. EPA disapproved Arkansas' decision not to list 52 WQLSs and associated pollutants. EPA proposed to add 52 of these additional WQLSs and pollutants along with priority rankings for inclusion on the 2002 Section 303(d) list and initiated public notice and comment for these proposed listings.

On June 9, 2003, EPA took final agency action not adding two of the proposed additional WQLSs and associated pollutants to the Arkansas 2002 section 303(d) list and adding 50 WQLSs to the Arkansas 2002 section 303(d) list.

Dated: June 9, 2003.
Miguel I. Flores,
Director, Water Quality Protection Division, Region 6.

[FR Doc. 03-15254 Filed 6-17-03; 8:45 am]

BILLING CODE 6560-60-P